DEPARTMENT OF HEALTH AND HUMAN SERVICES

Public Meeting of the President's Council on Bioethics on November 16-17, 2006

AGENCY: The President's Council on Bioethics, HHS.

ACTION: Notice.

SUMMARY: The President's Council on Bioethics (Edmund D. Pellegrino, MD, Chairman) will hold its twenty-seventh meeting, at which it will (1) Hear an update on stem cell research; (2) hear presentations on and discuss issues in clinical applications of advancements in genetics, as well as genetics policy and ethics; (3) discuss policy options in organ procurement, transplantation, and allocation; and (4) hear a presentation on and discuss issues in the ethics of health care. Agenda items one through three are continuations of previous Council discussions; the fourth agenda item is a new area of potential inquiry for the Council. Subjects discussed at past Council meetings (although not on the agenda for the November 2006 meeting) include: human dignity, therapeutic and reproductive cloning, assisted reproduction, reproductive genetics, neuroscience, aging retardation, and lifespan-extension. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004), Reproduction and Responsibility: The Regulation of New Biotechnologies (March 2004), Alternative Sources of Human Pluripotent Stem Cells: A White Paper (May 2005), and Taking Care: Ethical Caregiving in Our Aging Society (September 2005).

DATES: The meeting will take place Thursday, November 16, 2006, from 9 a.m. to 5:15 p.m., ET; and Friday, November 17, 2006, from 8:30 a.m. to 12 noon, ET.

ADDRESSES: The Hamilton Crowne Plaza Hotel, 1001 14th Street, NW., Washington, DC 20005. Phone 202-682-0111.

Agenda: The meeting agenda will be posted at http://www.bioethics.gov.

Public Comments: The Council encourages public input, either in person or in writing. At this meeting, interested members of the public may address the Council, beginning at 11:45 a.m. on Friday, November 17. Comments are limited to no more than five minutes per speaker or organization. As a courtesy, please inform Ms. Diane Gianelli, Director of Communications in advance of your intention to make a public statement, and give your name and affiliation. To submit a written statement, mail or e-mail to Ms. Gianelli at one of the address given below.

FOR FURTHER INFORMATION CONTACT: Ms. Diane Gianelli, Director of Communications, The President's Council on Bioethics, Suite 700, 1801 Pennsylvania Avenue, NW., Washington, DC 20006. Telephone: 202/296-4669. E-mail: info@bioethics.gov. Web site: http://www.bioethics.gov.

Dated: October 16, 2006.
F. Daniel Davis,
PhD., Executive Director, The President's Council on Bioethics.

[FR Doc. 06-8968 Filed 10-30-06; 8:45 am]

BILLING CODE 4154-07-M